DEPARTMENT OF LABOR

Mine Safety and Health Administration

Petitions for Modification

The following parties have filed petitions to modify the application of existing safety standards under section 101(c) of the Federal Mine Safety and Health Act of 1977.

1. Aracoma Coal Company

[Docket No. M-2001-106-C]

Aracoma Coal Company, P.O. Box 470, Stollings, West Virginia 25646 has filed a petition to modify the application of 30 CFR 75.900 (low- and medium-voltage circuits serving three-phase alternating current equipment; circuit breakers) to its Aracoma Alma Mine No. 1 (I.D. No. 46-08801) located in Logan County, West Virginia. The petitioner proposes to use a properly rated vacuum contactor for undervoltage circuit protection; to use a properly rated vacuum contactor for grounded phase circuit protection; to use a neutral grounding resister not more than 15 amperes for 480-volt circuit ground-fault current; to use a properly rated circuit breaker for a short circuit and/or over-current circuit protection; and conduct monthly examinations on each circuit to check for proper operation of the vacuum contactor and actuated undervoltage and grounded phase trip devices to ensure proper circuit operation. The petitioner asserts that the proposed alternative method would provide at least the same measure of protection as the existing standard.

2. Ohio Coal Company

[Docket No. M-2001-107-C]

Ohio County Coal Company, 19050 Highway 1078 South, Henderson, Kentucky 42420 has filed a petition to modify the application of 30 CFR 75.1700 (oil and gas wells) to its Freedom Mine (I.D. No. 15-17587) located in Henderson County, Kentucky. The petitioner proposes to mine through oil and gas well bores located within an approved mining area using the specific procedures outlined in this petition for modification. The petitioner asserts that the proposed alternative method would provide at least the same measure of protection as the existing standard.

3. Addington, Inc.

[Docket No. M-2001-108-C]

Addington, Inc., 8616 Long Branch Road, Hatfield, Kentucky 41514 has filed a petition to modify the application of 30 CFR 75.503 (permissible electric face equipment; maintenance) and 30 CFR 18.41(f) (plug and receptacle-type connectors) to its Pond Creek Mine No. 1 (I.D. No. 15-17287) located in Pike County, Kentucky. The petitioner proposes to use a spring-loaded locking device instead of a padlock on mobile battery-powered equipment to prevent unintentional loosening of battery plugs from battery receptacles to eliminate the hazards associated with difficult removal of padlocks during emergency situations. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before February 11, 2002. Copies of these petitions are available for inspection at that address.

Dated at Arlington, Virginia this 31st day of December 2001.
David L. Meyer,
Director, Office of Standards, Regulations, and Variances.

[FR Doc. 02-619 Filed 1-9-02; 8:45 am]

BILLING CODE 4510-43-P